DEPARTMENT OF COMMERCE

National Oceanic and Atmospheric Administration

50 CFR Part 648

[Docket No. 251204-0177]

RIN 0648-BO09

Magnuson-Stevens Fishery Conservation and Management Act Provisions; Fisheries of the Northeastern United States; Proposed 2026 and Projected 2027 Specifications for the Summer Flounder, Scup, Black Sea Bass, and Bluefish Fisheries

AGENCY: National Marine Fisheries Service (NMFS), National Oceanic and Atmospheric Administration (NOAA), Commerce.

ACTION: Proposed rule; request for comments.

SUMMARY: NMFS proposes 2026 and projects 2027 specifications for the summer flounder, scup, black sea bass, and bluefish fisheries. The implementing regulations for the Summer Flounder, Scup, and Black Sea Bass Fishery Management Plan (FMP) and the Bluefish FMP require us to publish specifications for the upcoming fishing year for each of these species and to provide an opportunity for public comment. The proposed specifications establish allowable harvest levels for these species that will prevent overfishing, consistent with the most recent scientific information.

DATES: Comments must be received on or before December 24, 2025.

ADDRESSES: A plain language summary of this proposed rule is available at https://www.regulations.gov/docket/NOAA-NMFS-2025-0735. You may submit comments on this document, identified by NOAA-NMFS-2025-0735, by the following method:

• Electronic Submission: Submit all electronic public comments via the Federal e-Rulemaking Portal. Visit https://www.regulations.gov and type NOAA-NMFS-2025-0735 in the Search box. Click on the “Comment” icon, complete the required fields, and enter or attach your comments.

Instructions: Comments sent by any other method, to any other address or individual, or received after the end of the comment period, may not be considered by NMFS. All comments received are a part of the public record and will generally be posted for public viewing on https://www.regulations.gov without change. All personal identifying information (e.g., name, address, etc.), confidential business information, or otherwise sensitive information submitted voluntarily by the sender will be publicly accessible. NMFS will accept anonymous comments (enter “N/A” in the required fields if you wish to remain anonymous).

An Environmental Assessment (EA) was prepared for the 2026-2027 summer flounder, scup, and black sea bass specifications, and a Supplemental Information Report (SIR) was prepared for the 2026-2027 bluefish specifications. Copies of the EA and SIR are available on request from Dr. Christopher M. Moore, Executive Director, Mid-Atlantic Fishery Management Council, Suite 201, 800 North State Street, Dover, DE 19901. They are also accessible via the internet at: https://www.mafmc.org/supporting-documents.

FOR FURTHER INFORMATION CONTACT: Laura Deighan, Fishery Policy Analyst, (978) 281-9184, or laura.deighan@noaa.gov.

SUPPLEMENTARY INFORMATION:

General Background

The Mid-Atlantic Fishery Management Council (Council), in cooperation with the Atlantic States Marine Fisheries Commission (Commission), develops management measures for the summer flounder, scup, black sea bass, and bluefish fisheries. The Council, pursuant to the Magnuson-Stevens Fishery Conservation and Management Act (Magnuson-Stevens Act), develops recommendations regarding fisheries in Federal waters seaward of New York, New Jersey, Delaware, Pennsylvania, Maryland, Virginia, and North Carolina. The Commission, pursuant to the Atlantic Coastal Fisheries Cooperative Management Act, addresses fisheries in State waters from Florida to Maine. These bodies work together in the development of complementary FMPs for species including summer flounder, scup, black sea bass, and bluefish that are harvested in both Federal and State waters, and each year these bodies work together to develop specifications for these fisheries. The Council provides its recommendations to NMFS. Under the provisions of the Magnuson-Stevens Act, on behalf of the Secretary of Commerce, the Greater Atlantic Regional Fisheries Office's Regional Administrator reviews proposed specifications for consistency with the FMP, plan amendments, the Magnuson-Stevens Act and other applicable law. The Regional Administrator is required to publish proposed regulations, consistent with the Council's recommendations, with such technical changes as may be necessary for clarity and an explanation of those changes for public comment (section 304(b)(1)(A) of the Magnuson-Stevens Act). After public comment, the Regional Administrator may publish revisions to the proposed regulations along with an explanation of any differences between the proposed and final regulations (section 304(b)(3) of the Magnuson-Stevens Act; 50 CFR 648.90(a)).

Specifications in these fisheries include stock-wide overfishing limits (OFL) and acceptable biological catches (ABC), as well as various catch and landing subdivisions, such as the commercial and recreational sector annual catch limits (ACL), annual catch targets (ACT), and sector-specific landing limits (i.e., the commercial fishery quota and recreational harvest limit) established for 1 to 3 years at a time. Adjustments to commercial management measures for all four species and the recreational management measures for bluefish (i.e., minimum fish sizes, seasonal closures, and possession restrictions) are also considered in the specifications process. The process for measures used to manage the recreational summer flounder, scup, and black sea bass fisheries occurs separately and is not discussed further in this rule.

The Summer Flounder, Scup, and Black Sea Bass FMP and the Bluefish FMP and their implementing regulations establish the process for setting specifications for each of those four species. All requirements of the Magnuson-Stevens Act, including the 10 National Standards, also apply to specifications. The FMPs also contain formulas to divide the specification catch limits into commercial and recreational fishery allocations, State-by-State quotas, and quota periods, depending on the species in question. This proposed rule outlines the application of the existing allocation provisions for each species and provides the resulting allocations, by State and sector, as appropriate, for each species.

At a joint meeting in August 2025, the Commission's Summer Flounder, Scup, and Black Sea Bass Boards and its Bluefish Board and the Council recommended 2026 and projected 2027 summer flounder, scup, black sea bass, and bluefish specifications. While the Boards' actions were finalized at the Commission and Council's August meeting, the Council's recommendations must be reviewed by NMFS to ensure that they comply with the FMPs, implementing regulations, and applicable law. NMFS must also conduct notice and comment rulemaking to propose and implement the final specifications.

This action proposes the ABCs, recreational and commercial ACLs, recreational and commercial ACTs, commercial quotas and recreational harvest limits for all four species, as recommended by the Boards and Council. The Summer Flounder, Scup, and Black Sea Bass FMP and the Bluefish FMP and their implementing regulations establish the process for setting specifications for each of these species, including formulas to divide the catch limits into commercial and recreational fishery allocations, State-by-State quotas, and quota periods, depending on the species. This proposed rule outlines the application of the existing allocation provisions for each species and provides the resulting preliminary allocations by State and sector, as appropriate, for each species. NMFS will announce any adjustments to the 2026 catch limits needed to account for any previous overages in the final rule before the start of the 2026 fishing year.

This action also proposes increases to the recreational possession limits in the bluefish fishery, as recommended by the Bluefish Board and Council. Changes to summer flounder, scup, and black sea bass recreational management measures are expected to be discussed at the joint Commission and Council meeting in December and would be implemented through a separate action. This action does not propose any changes to the commercial management measures for any of the four species.

Proposed 2026 and Projected 2027 Specifications

Summer Flounder Specifications

Consistent with the statutory scheme described above, NMFS is proposing the Board and Council-recommended 2026 and 2027 (projected) summer flounder catch and landings limits shown in table 1. This action proposes a constant, averaged ABC of 30.01 million pounds (lb; 13,611 metric tons (mt)) for 2026 and 2027, consistent with the recommendations of the Council, Board, and the Council's Scientific and Statistical Committee (SSC). The ABCs are based on the OFL and the applicable risk policy. During their August meeting, the Board and Council discussed the tendency for large fluctuations in the summer flounder stock, where reductions in the ABC by 25 percent or more have been necessary in the years following an ABC set at or above 25 to 30 million lb (11,340 to 13,608 mt). In the past, some stakeholders have expressed a preference for more stability, as large swings can create planning and business challenges for both the commercial and the recreational sectors. In addition, the projections reflect a recent increase in recruitment in 2023 and 2024. However, summer flounder recruit to the fishery after approximately 2-4 years, so the larger 2023- and 2024-year classes have not yet fully translated to fishable biomass. Therefore, this action proposes a 12-percent management uncertainty buffer applied to both the commercial and recreational ACLs to provide more stable catch limits and allow the 2023 and 2024 year-classes to recruit to the fishery. This results in 2026-2027 commercial quotas of 12.78 million lb (5,797 mt) and recreational harvest limits of 8.79 million lb (3,987 mt), which equate to 45-percent and 38-percent increases, respectively, compared to 2025.

Table 1—Summary of Proposed 2026 and Projected 2027 Summer Flounder Fishery Specifications
Specifications | Million pounds (lb) | Metric ton (mt)
OFL | (2026) 31.89 (2027) 32.42 | (2026) 14,466 (2027) 14,705
ABC | 30.01 | 13,611
Commercial ACL | 16.5 | 7,486
Commercial ACT | 14.52 | 6,585
Commercial dead discard estimate | 1.74 | 790
Commercial Quota | 12.78 | 5,795
Recreational ACL | 13.5 | 6,125
Recreational ACT | 11.88 | 5,388
Recreational dead discard estimate | 3.09 | 1,401
Recreational Harvest Limit | 8.79 | 3,987

The 12-percent buffer results in a commercial quota and recreational harvest limit equal to what the quota and recreational harvest limit would have been using the 5-year average ABC from 2021 to 2025 and no buffers. Using the recent 5-year average was seen as a reasonable approach to account for the uncertainty discussed above. Applying a management uncertainty buffer to the commercial and recreational ACLs is preferable to applying a scientific uncertainty buffer to set a lower ABC that would result in lower ACLs and, thus, lower triggers for the commercial and recreational accountability measures.

The proposed initial 2026 and projected 2027 State-by-State summer flounder quotas are provided in table 2. As required in amendment 21 to the Summer Flounder, Scup, and Black Sea Bass FMP (85 FR 80661, December 14, 2020), if the commercial quota in any year is higher than 9.55 million lb (4,332 mt), the first 9.55 million lb (4,322 mt) is distributed according to the baseline formula, and any additional quota beyond this threshold will be distributed in equal shares to all States except Maine, Delaware, and New Hampshire, which would split 1 percent of the additional quota. This year's quota is above the threshold, and the State-by-State allocations below are based on the baseline and additional allocations according to the process described in the summer flounder regulations at § 648.102(c)(1). Any previous overages may result in adjustments to these proposed 2026 State quotas in the final rule.

Table 2—Initial Proposed 2026 and Projected 2027 Summer Flounder State-by-State Quotas
State | Initial quotas ¹ (lb) | Initial quotas ¹ (kg)
ME | 15,284 | 6,933
NH | 10,786 | 4,892
MA | 1,050,545 | 476,519
RI | 1,896,916 | 860,427
CT | 614,742 | 278,842
NY | 1,129,479 | 512,323
NJ | 1,996,428 | 905,564
DE | 12,441 | 5,643
MD | 593,925 | 269,400
VA | 2,434,942 | 1,104,471
NC | 3,020,269 | 1,369,971
Total ² | 12,775,757 | 5,794,985
¹ Initial quotas do not account for any previous overages.
² Totals may differ slightly from the sums of the quotas due to rounding.

This action does not propose any changes to the current commercial management measures, including the minimum fish size (14-inch (36-centimeters (cm)) total length), gear requirements, and possession limits. This action does not propose any changes to the recreational management measures. Any such changes would take place through a separate action.

Scup Specifications

The proposed 2026 and 2027 (projected) scup catch and landings limits are shown in table 3, including ABCs of 42.09 million lb (19,091 mt) in 2026 and 37.01 million lb (16,788 mt) in 2027 consistent with the recommendations of the Council, Board, and the SSC. The ABCs are based on the OFL and the applicable risk policy. To ensure that the probability of overfishing remained below 50 percent in each year, the SSC recommended different ABCs for 2026 and 2027. This action proposes commercial quotas of 17.7 million lb (8,029 mt) in 2026 and 15.57 million lb (7,060 mt) in 2027 and recreational harvest limits of 13.17 million lb (5,974 mt) in 2026 and 11.58 million lb (5,253 mt) in 2027, consistent with the recommendation of the Board and Council.

Table 3—Summary of Proposed 2026 and 2027 Scup Specifications
Specifications | 2026: Million lb | 2026: mt | 2027: Million lb | 2027: mt
OFL | 42.98 | 19,494 | 37.79 | 17,142
ABC | 42.09 | 19,091 | 37.01 | 16,788
Commercial ACL | 27.36 | 12,409 | 24.06 | 10,912
Commercial ACT | 27.36 | 12,409 | 24.06 | 10,912
Expected commercial dead discards | 9.66 | 4,380 | 8.49 | 3,852
Commercial quota | 17.7 | 8,029 | 15.57 | 7,060
Recreational ACL | 14.73 | 6,682 | 12.95 | 5,876
Recreational ACT | 14.73 | 6,682 | 12.95 | 5,876
Expected recreational dead discards | 1.56 | 708 | 1.37 | 623
Recreational harvest limit | 13.17 | 5,974 | 11.58 | 5,253

The 2026 commercial quota represents a small decrease compared to 2025, despite the increased ABC, due to increasing commercial discards in recent years. This decrease does not apply to the recreational sector, and recreational discards have been relatively stable. The lower ABC in 2027 results in lower catch limits for both the commercial and recreational sectors in 2027. During their August meeting, the Board and Council noted some concerns that projection models for multiple species have recommended substantial decreases in OFLs and ABCs when projecting 2 or more years out. The Board and Council discussed the potential to revisit the 2027 scup specifications in 2026, but also noted that the commercial scup fishery has not been constrained by catch limits in recent years, as landings have been below 15 million lb (6,804 mt) since 2018.

This action would set the scup commercial quotas by quota period as provided in table 4 and described in the scup regulations at § 648.122(c)(1). If the Winter I quota is not fully harvested, the remaining quota is transferred to Winter II, and the Winter II possession limit may be adjusted via notice in the Federal Register, per the regulations at § 648.122(d).

Table 4—Proposed 2026 and Projected 2027 Commercial Scup Quotas by Quota Period
Quota period | Percent share | 2026: Million lb | 2026: mt | 2027: Million lb | 2027: mt
Winter I | 45.11 | 7.98 | 3,622 | 7.02 | 3,185
Summer | 38.95 | 6.89 | 3,127 | 6.06 | 2,750
Winter II | 15.94 | 2.82 | 1,280 | 2.48 | 1,125
Total | 100.0 | 17.70 | 8,029 | 15.57 | 7,060

The current quota period possession limits are not changed by this action and are outlined in table 5.

Table 5—Commercial Scup Possession Limits by Quota Period
Quota period | Percent share | Federal possession limits (per trip): lb | Federal possession limits (per trip): kg
Winter I | 45.11 | 50,000 | 22,680
Summer | 38.95 | N/A | N/A
Winter II | 15.94 | 12,000 | 5,443
Total | 100 | N/A | N/A

The Winter I scup commercial possession limit is proposed to drop to 1,000 lb (454 kg) when 80 percent of that period's allocation is landed. If the Winter I quota is not fully harvested, the remaining quota would be transferred to Winter II. The Winter II possession limit may be adjusted (in association with a transfer of unused Winter I quota to the Winter II period) via notice in the Federal Register. The regulations specify that the Winter II possession limit would increase to different levels consistent with any increase in the quota as described in table 6.

Table 6—Potential Increase in Winter II Possession Limits Based on the Amount of Unused Scup Rolled Over From Winter I to Winter II
Initial Winter II possession limit: lb | Initial Winter II possession limit: kg | Rollover from Winter I to Winter II: lb | Rollover from Winter I to Winter II: kg | Increase in initial Winter II possession limit: lb | Increase in initial Winter II possession limit: kg | Final Winter II possession limit after rollover from Winter I to Winter II: lb | Final Winter II possession limit after rollover from Winter I to Winter II: kg
12,000 | 5,443 | 0-499,999 | 0-226,796 | 0 | 0 | 12,000 | 5,443
12,000 | 5,443 | 500,000-999,999 | 226,796-453,592 | 1,500 | 680 | 13,500 | 6,123
12,000 | 5,443 | 1,000,000-1,499,999 | 453,592-680,388 | 3,000 | 1,361 | 15,000 | 6,804
12,000 | 5,443 | 1,500,000-1,999,999 | 680,389-907,184 | 4,500 | 2,041 | 16,500 | 7,484
12,000 | 5,443 | * 2,000,000-2,500,000 | 907,185-1,133,981 | 6,000 | 2,722 | 18,000 | 8,165
* This process of increasing the possession limit in 1,500 lb (680 kg) increments would continue past 2,500,000 lb (1,122,981 kg), but we end here for the purpose of this example.

This action does not propose any changes to commercial management measures for scup, including the minimum fish size (9-inch (22.9-cm) total length), gear requirements, and quota period possession limits. As noted above, any potential changes to recreational management measures would take place through a separate action after discussion at a future Council and Commission meeting.

Black Sea Bass Specifications

The proposed 2026 and 2027 (projected) black sea bass catch and landings limits are shown in table 7, including an ABC of 21.34 million lb (9,679 mt), a commercial quota of 7.83 million lb (3,553 mt), and a recreational harvest limit of 8.14 million lb (3,690 mt) in 2026 and 2027, consistent with the Board and Council's recommendations. These proposed catch limits are based on an OFL and ABC using the terminal year biomass and maximum fishing mortality threshold (MFMT) from the assessment. The Council, the Board, and the SSC recommend this approach due to persistent and substantial inconsistency between an assessment's projected stock conditions and updated stock information from subsequent black sea bass assessments. At its July 22-24, 2025, meeting, the SSC expressed concerns that the issue persisted in the 2026 and 2027 projections. As a result, the SSC accepted the black sea bass assessment but rejected the 2026 and 2027 projections, which would have resulted in a small decrease for the 2026 ABC followed by a substantial decrease for 2027 relative to 2025. The SSC recommends using the terminal year biomass and MFMT as a reasonable alternative approach to set the 2026-2027 ABCs. The Board and Council agreed, given the current high biomass and that this approach had performed as well as using the standard projection methodology when it was simulation-tested during management strategy evaluations. The proposed catch limits represent a 31-percent increase for the commercial fishery and a 30-percent increase for the recreational fishery relative to 2025.

Table 7—Summary of Proposed 2026 and Projected 2027 Black Sea Bass Specifications
Specifications | 2026-2027: Million lb | 2026-2027: mt
OFL | 21.79 | 9,883
ABC | 21.34 | 9,679
Commercial ACL | 9.60 | 4,356
Commercial ACT | 9.60 | 4,356
Expected commercial dead discards | 1.77 | 803
Commercial quota | 7.83 | 3,553
Recreational ACL | 11.74 | 5,323
Recreational ACT | 11.74 | 5,323
Expected recreational dead discards | 3.60 | 1,633
Recreational harvest limit | 8.14 | 3,690

On October 1, 2024 (89 FR 79778), NMFS implemented amendment 23 to the Summer Flounder, Scup, and Black Sea Bass FMP, which allows for an in-season closure buffer of up to 5 percent, such that the black sea bass commercial fishery would close when up to 105 percent of the quota is projected to be landed. This buffer is intended to minimize negative economic impacts when the coastwide quota is reached before all States have fully harvested their Commission-based allocations due to overages in individual States. Pursuant to the regulations at § 648.142(a)(15), this action proposes a 5-percent commercial in-season closure buffer for 2026 and projects the same for 2027, consistent with the recommendations of the Board and Council. Given recent patterns in the fishery, an in-season closure is not expected for 2025. In the unlikely event it is needed, a 5-percent buffer could have socioeconomic benefits with little risk to stock status.

This action proposes no changes to commercial management measures for black sea bass. As noted above, any potential changes to black sea bass recreational management measures would take place through a separate action.

Bluefish Specifications

The proposed 2026 and 2027 (projected) bluefish catch and landings limits are shown in table 8, including ABCs of 44.61 million lb (20,234 mt) in 2026 and 45.41 million lb (20,598 mt) in 2027, consistent with the projections and the recommendations of the Council, the Board, and the SSC. It proposes a 25-percent commercial management uncertainty buffer applied to the commercial ACLs and a 30-percent recreational management uncertainty buffer applied to the recreational ACLs. This results in a proposed commercial quota of 4.66 million lb (2,114 mt) in 2026 and a projected commercial quota of 4.75 million lb (2,155 mt) in 2027, representing a 42-percent and 44-percent increase from 2025. It results in a proposed recreational harvest limit of 22.02 million lb (9,988 mt) in 2026 and a projected recreational harvest limit of 22.5 million lb (10,206 mt) in 2027, representing a 33-percent and 35-percent increase from 2025.

Table 8—Summary of Proposed 2026 and Projected 2027 Bluefish Specifications
Specifications | 2026: Million lb | 2026: mt | 2027: Million lb | 2027: mt
OFL | 48.43 | 21,969 | 49.22 | 22,325
ABC | 44.61 | 20,234 | 45.41 | 20,598
Commercial ACL | 6.25 | 2,833 | 6.36 | 2,884
Commercial ACT | 4.68 | 2,125 | 4.77 | 2,163
Expected commercial dead discards | 0.02 | 10 | 0.02 | 10
Commercial quota | 4.66 | 2,115 | 4.75 | 2,153
Recreational ACL | 38.36 | 17,401 | 39.05 | 17,714
Recreational ACT | 26.85 | 12,181 | 27.34 | 12,400
Expected recreational dead discards | 4.84 | 2,194 | 4.84 | 2,194
Recreational harvest limit | 22.02 | 9,987 | 22.50 | 10,206

The Board and Council-recommended ABCs represent a more than 100-percent increase from the 2025 ABC. During their August meeting, the Board and Council had an in-depth discussion about management uncertainty, particularly around the upcoming Marine Recreational Information Program (MRIP) recalibration that is expected to be available in 2026. Recent studies indicated that reporting bias may be overestimating recreational fishing effort, which may require recalibration of historical catch and effort estimates. Bluefish is primarily a recreational fishery, and the recalibration is expected to result in updated catch information, with downstream impacts on stock assessments and catch limits. The Board and Council ultimately recommended catch limits using the SSC-recommended ABCs; a higher, 25-percent management uncertainty buffer for both sectors to reduce the likelihood of large swings in the catch limits while the stock is still rebuilding; and an additional 5-percent management uncertainty buffer for the recreational sector based on the uncertainty from the MRIP recalibration.

The coastwide commercial quota is allocated to coastal States from Maine to Florida based on percent shares specified in the Bluefish FMP and the regulations at § 648.162(d). Table 9 provides the proposed initial commercial State allocations based on the proposed coastwide commercial quota for 2025 and the phased-in changes to the percent share allocations to the States specified in amendment 7. We will announce any adjustments needed to account for any previous overages in the final rules prior to the start of the 2026 and 2027 fishing years.

Table 9—Proposed Initial 2026 and Projected 2027 Bluefish State Commercial Quota Allocations
State | 2026: Percent share | 2026: Quota ¹ (lb) | 2026: Quota ¹ (lb) | 2027: Percent share | 2027: Quota ¹ (lb) | 2027: Quota ¹ (lb)
Maine | 0.27 | 12,537 | 5,687 | 0.19 | 8,971 | 4,069
New Hampshire | 0.27 | 12,693 | 5,758 | 0.24 | 11,573 | 5,249
Massachusetts | 9.14 | 426,280 | 193,357 | 9.63 | 457,026 | 207,304
Rhode Island | 8.81 | 410,612 | 186,250 | 9.21 | 437,017 | 198,227
Connecticut | 1.14 | 53,069 | 24,072 | 1.11 | 52,814 | 23,956
New York | 17.08 | 796,248 | 361,172 | 18.42 | 874,191 | 396,526
New Jersey | 14.12 | 658,379 | 298,636 | 13.98 | 663,697 | 301,048
Delaware | 0.89 | 41,483 | 18,816 | 0.69 | 32,851 | 14,901
Maryland | 2.23 | 103,833 | 47,098 | 2.07 | 98,358 | 44,614
Virginia | 7.58 | 353,550 | 160,367 | 6.72 | 319,166 | 144,771
North Carolina | 32.04 | 1,493,521 | 677,450 | 32.03 | 1,520,292 | 689,593
South Carolina | 0.08 | 3,912 | 1,774 | 0.09 | 4,445 | 2,016
Georgia | 0.08 | 3,533 | 1,603 | 0.09 | 4,226 | 1,917
Florida | 6.29 | 293,118 | 132,956 | 5.53 | 262,611 | 119,118
Total ² | 100 | 4,662,769 | 2,114,997 | 100 | 4,747,237 | 2,153,311
¹ Initial quotas do not account for any previous overages.
² Totals may differ slightly from the sums of the quotas due to rounding.

This action proposes changes to the recreational bag limits, as recommended by the Board and Council, based on the increased recreational harvest limits and positive stock trajectory. It proposes a 2-fish increase for both recreational sectors, resulting in a 7-fish bag limit for the for-hire sector and a 5-fish bag limit for private anglers. This action proposes no changes to the commercial management measures for bluefish.

Classification

Pursuant to sections 304(b)(1)(A) and 305(d) of the Magnuson-Stevens Act, the NMFS Assistant Administrator has determined that this proposed rule is consistent with the Summer Flounder, Scup, and Black Sea Bass FMP, the Bluefish FMP, other provisions of the Magnuson-Stevens Act, and other applicable law, subject to further consideration after public comment. NMFS is issuing this rule pursuant to sections 304(b)(1)(A) and 305(d) of the Magnuson-Stevens Act, which provide specific authority for implementing this action. Section 304(b) of the Magnuson-Stevens Act authorizes NMFS to implement rules and regulations deemed necessary by the Council. In a previous action under section 304(b), the regulations at 50 CFR 648.102(c), 648.122(b), 648.142(b), and 648.162(c) authorize NMFS to implement the summer flounder, scup, black sea bass, and bluefish specifications under section 305(d).

This action has been determined to be not significant for purposes of Executive Order 12866.

This proposed rule is not an Executive Order 14192 regulatory action because this rule is not significant under Executive Order 12866.

The Chief Counsel for Regulation of the Department of Commerce certified to the Chief Counsel for Advocacy of the Small Business Administration that this proposed rule, if adopted, would not have a significant economic impact on a substantial number of small entities. The basis for the certification follows.

An evaluation of the potential socioeconomic impacts of the proposed measures was conducted in conjunction with the 2026-2027 Summer Flounder, Scup, and Black Sea Bass Specifications EA and the 2026-2027 Bluefish Specifications SIR.

For the purposes of the Regulatory Flexibility Act, the regulated entities (i.e., the small and large businesses) to which the rule applies include fishing operations with relevant Federal commercial or for-hire permits in the Greater Atlantic Region. Private recreational anglers are not considered “entities” under the Regulatory Flexibility Act; thus, economic impacts on private anglers are not considered here. For-hire or commercial vessels that are permitted to operate in State waters only will also be affected by the Commission's adoption of this action, but are not considered in this analysis.

Vessel ownership data were used to identify all individuals who own fishing vessels. Vessels were then grouped according to common owners. The resulting groupings were then treated as entities or affiliates for purposes of identifying small and large businesses that may be affected by this action. Affiliates were identified as primarily commercial fishing affiliates if the majority of their recent revenues came from commercial fishing. Some of these affiliates may have also held party/charter (i.e., for-hire) permits. Affiliates were identified as primarily for-hire fishing affiliates if the majority of their recent revenues came from for-hire fishing. Some of these affiliates may have also held commercial permits. Affiliates were identified as small or large businesses based on their recent average revenues.

A total of 633 primarily commercial affiliates were identified as potentially impacted by the summer flounder, scup, and black sea bass specifications, with 624 classified as small businesses and 9 classified as large businesses.

A total of 866 primarily commercial affiliates in the Greater Atlantic Region were identified as potentially impacted by the bluefish specifications, with 857 classified as small businesses and 9 classified as large businesses. The affiliate database used to identify small/large business firms that have recently participated in the bluefish fishery does not contain detailed ownership data for business entities in the South Atlantic Region. Data from South Atlantic Trip Ticket Reports indicate that up to 645 additional commercial vessels in North Carolina and up to 371 vessels in Florida (none in South Carolina or Georgia) landed bluefish. Double-counting is possible, as some of the vessels in the South Atlantic may be associated with bluefish entities in the Greater Atlantic Region. Additionally, some Greater Atlantic Region entities may hold permits for summer flounder, scup, and/or black sea bass and bluefish.

According to the ownership database, 426 for-hire affiliate firms in the Greater Atlantic Region generated revenues from fishing recreationally for various species during the 2022-2024 period. All of these affiliates are categorized as small businesses. It is not possible to derive what proportion of the overall revenues for these for-hire firms came from specific fishing activities (e.g., bluefish, summer flounder, scup, black sea bass, groundfish, golden tilefish, weakfish, striped bass, tautog, and pelagics).

Expected Impacts on Commercial Entities

For summer flounder, scup, and black sea bass, the 9 potentially impacted primarily commercial large business affiliates derived less than 2 percent of total annual revenues from summer flounder, scup, and/or black sea bass during 2020-2024. The 624 potentially impacted primarily commercial small business affiliates derived approximately 17 percent of total revenues from summer flounder, scup, and/or black sea bass during 2020-2024. Some individual businesses, including many of the smaller of the small commercial businesses, tended to have a greater reliance on summer flounder, scup, and/or black sea bass. Therefore, these businesses may feel the positive and/or negative impacts of this action to a greater extent than the larger small businesses.

The proposed 2026 and 2027 summer flounder commercial quotas represent an increase compared to those of 2024 and 2025 but are similar to those previously implemented from 2019 to 2023. The proposed quotas are expected to result in similar commercial effort and landings, and thus revenues, compared to recent levels, assuming other factors such as prices and market demand remain similar to recent conditions. Therefore, this proposed rule is expected to result in a slight to moderate positive socioeconomic impact for commercial summer flounder fishery participants.

The proposed 2026 and 2027 scup commercial quotas represent a decrease compared to 2024 and 2025. However, commercial scup landings have been below the commercial quota in recent years and appear to be influenced more by market factors than by the commercial quota. Therefore, the quotas are expected to result in similar or slightly increased commercial scup landings and revenues compared to recent years. The quotas are expected to result in slight positive socioeconomic impacts, assuming other factors such as prices and market demand remain similar to recent conditions.

The proposed 2026-2027 commercial black sea bass quota is higher than black sea bass commercial landings throughout the history of management, which could result in substantially higher landings. However, other factors, such as market demand and price, appear to limit commercial landings more than the quota. Commercial landings have not approached the quota since it increased by about 59 percent in 2020. Landings are not expected to reach the full proposed quota if other factors, such as prices and market demand, remain unchanged. Therefore, the proposed commercial black sea bass quota is expected to result in slight to moderate positive socioeconomic impacts.

For bluefish in the Greater Atlantic Region, 271 small entities and 4 large entities landed bluefish in 2022-2024, with bluefish contributing an average of 0.21 percent and 0.05 percent, respectively, to their total gross revenues. Therefore, the overall contribution of bluefish to total gross receipts for these entities is small. There were an additional 576 small entities and 5 large entities with bluefish permits that did not land bluefish in 2022-2024. The 3-year average contribution of bluefish revenues to total gross revenues for the vessels that landed bluefish in North Carolina and Florida was 11 percent and 6 percent, respectively. The proposed 2026 and 2027 bluefish commercial quotas represent a more than 40-percent increase compared to 2025. However, commercial landings since the rebuilding plan started (2022-2024) have been, on average, 33 percent below the commercial quota. Harvest has been driven more by market demand and availability, which are not expected to substantially change in the short term. Therefore, the proposed commercial quota is expected to result in slight negative to slight positive socioeconomic impacts.

Expected Impacts on Recreational For-Hire Entities

The 426 for-hire fishing affiliates that are potentially impacted by this action were all categorized as small businesses and had average total annual revenues of $118,555 from 2020 to 2024. Their annual revenues from recreational for-hire fishing (for a variety of species) averaged $117,828. Average annual revenues from for-hire fishing ranged from less than $10,000 for 159 affiliates to over $1,000,000 for 7 affiliates. On average, recreational fishing accounted for 96 percent of the total revenues for these 426 small businesses. As previously stated, it is not possible to derive what proportion of the for-hire revenues came from fishing activities for an individual species. Nevertheless, given the popularity of summer flounder, scup, black sea bass, and bluefish as recreational species, revenues generated from these species are likely important to many of these businesses, at least at certain times of the year. For-hire revenues are impacted by a variety of factors, including regulations and demand for for-hire trips for summer flounder, scup, black sea bass, bluefish, and other potential target species; weather; and the economy.

For summer flounder, scup, and black sea bass, Federal recreational measures for 2026-2027 will be recommended by the Board and Council in December 2025 and addressed through a separate rulemaking. It is expected that, as required by framework 19 to the Summer Flounder, Scup, and Black Sea Bass FMP (which has not yet been finalized), recreational measures will be set using the Percent Change Approach. (Framework 19 was approved by the Council at its April 2025 meeting and submitted to NMFS in August 2025. This action must go through a Federal rulemaking process consistent with the Magnuson-Stevens Act and Administrative Procedure Act prior to its use for the development of recreational measures for summer flounder, scup, and black sea bass.) Under this approach, the recreational harvest limit is one of multiple factors used to determine if the recreational measures should be modified to achieve a certain percentage liberalization, reduction, or “no liberalization or reduction” (i.e., status quo measures) in harvest. If Framework 19 is not approved, recreational measures will be set based on a method that requires adjustments to bag, season, and/or size limits if projected current year harvest exceeds the next year's recreational harvest limit. The analysis to determine the necessary changes will be carried out later in 2025, and it is not possible to predict how recreational harvest will change at this time.

For summer flounder, the proposed recreational harvest limit is 10 percent greater than the average 2020-2024 recreational landings. Therefore, the Percent Change Approach could result in no liberalization or reduction or a reduction of up to 40 percent. Requiring no liberalization or reduction would generally result in a similar number of for-hire trips and revenue relative to recent years. If a reduction were required, it would likely be small given recent patterns in recreational harvest compared to the preferred recreational harvest limit and would likely result in a small decrease in for-hire trips and revenue. Therefore, the range of socioeconomic impacts of the proposed recreational harvest limits could be slight positive or slight negative, depending on the outcome of the Percent Change Approach.

For scup and black sea bass, the recreational harvest limits could result in no liberalization or reduction or a liberalization of up to 40 percent. Requiring no liberalization or reduction would generally result in a similar number of for-hire trips and revenue as in recent years. However, liberalizing measures could result in an increase in for-hire trips and revenues and slight to moderate positive impacts for recreational for-hire businesses.

For bluefish, the proposed 2026 and 2027 recreational harvest limits are over 50 percent higher than the current recreational harvest limit. However, recreational landings have been 13 percent below the recreational harvest limit, on average, in recent years. Industry members on the Bluefish Advisory Panel indicate that low inshore availability is keeping recreational landings down, as migratory patterns of bluefish have changed from inshore to offshore in the last decade or so. Therefore, the proposed recreational harvest limits are not expected to significantly affect fishing effort. This action would also increase the for-hire bag limit from five to seven fish, which could result in a small increase in the number of for-hire recreational trips (approximately 4.8 percent). However, given trends in low inshore bluefish availability, this increase may not materialize. Overall, the 2026-2027 bluefish recreational measures are expected to result in slight negative to slight positive socioeconomic impacts.

Additional non-preferred alternatives were also considered. When considering the economic impacts of the alternatives under the Regulatory Flexibility Act, consideration should also be given to those non-preferred alternatives that would result in higher net benefits or lower costs to small entities while still achieving the stated objective of the action. The proposed specifications follow the recommendations of the SSC and Monitoring Committee, are consistent with the applicable risk policy, and are based on the updated stock assessments and the best scientific information available. Alternatives that would be expected to have higher net benefits to small entities compared to the preferred alternatives would also allow for catches that exceed the ABCs recommended by the SSC. These alternatives could induce overfishing and lead to lower long-term revenues and profits. Therefore, they are inconsistent with the goals of this action, the FMPs, and other applicable laws.

This action is not expected to adversely impact revenues for commercial and recreational vessels that fish for summer flounder, scup, black sea bass, and bluefish. Because this proposed rule, if adopted, will not have a significant economic impact on a substantial number of small entities, an initial regulatory flexibility analysis is not required, and none has been prepared.

This proposed rule contains no information collection requirements under the Paperwork Reduction Act of 1995.

List of Subjects in 50 CFR Part 648

Fisheries, Fishing, Reporting and recordkeeping requirements.

Dated: December 4, 2025.
Samuel D. Rauch III,
Deputy Assistant Administrator for Regulatory Programs, National Marine Fisheries Service.

For the reasons set out in the preamble, NMFS proposes to amend 50 CFR part 648 as follows:

PART 648—FISHERIES OF THE NORTHEASTERN UNITED STATES

1. The authority citation for part 648 continues to read as follows:

Authority: 16 U.S.C. 1801 et seq.

2. In § 648.164, revise paragraphs (a)(1) and (2) to read as follows:

§ 648.164 Bluefish possession restrictions.

(a) * * *

(1) Private recreational vessels. Any person fishing on board a vessel that is not fishing under a bluefish commercial or charter/party vessel permit issued pursuant to § 648.4(a)(8) may land up to five bluefish per day.

(2) For-hire vessels. Anglers fishing on board a for-hire vessel that is fishing under a bluefish charter/party vessel permit issued pursuant to § 648.4(a)(8) may land up to seven bluefish per person per day.

* * * * *

[FR Doc. 2025-22340 Filed 12-8-25; 8:45 am]

BILLING CODE 3510-22-P